INTERNATIONAL TRADE COMMISSION

[Investigation No. 337-TA-1331]

Certain Outdoor and Semi-Outdoor Electronic Displays, Products Containing Same, and Components Thereof; Notice of Commission Decision Not To Review an Initial Determination Terminating the Investigation as to a Respondent and Granting Complainant's Motion To Amend the Complaint and Notice of Investigation

AGENCY: U.S. International Trade Commission.

ACTION: Notice.

SUMMARY: Notice is hereby given that the U.S. International Trade Commission (“the Commission”) has determined not to review an initial determination (“ID”) (Order No. 6) of the presiding administrative law judge (“ALJ”): (1) terminating the investigation as to respondent Coates Visual LLC (“Coates Visual”) of Chicago, Illinois; and (2) granting complainant's motion to amend the complaint and notice of investigation (“NOI”) in the above-captioned investigation to add respondent Coates US Inc. (“Coates US”) of Chicago, Illinois.

FOR FURTHER INFORMATION CONTACT: Clint Gerdine, Esq., Office of the General Counsel, U.S. International Trade Commission, 500 E Street SW, Washington, DC 20436, telephone (202) 708-2310. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal, telephone (202) 205-1810.

SUPPLEMENTARY INFORMATION: The Commission instituted this investigation on September 23, 2022, based on a complaint filed on behalf of Manufacturing Resources International, Inc. (“Complainant”) of Alpharetta, Georgia. 87 FR 58132-33 (Sept. 23, 2022). The complaint alleges violations of section 337 of the Tariff Act of 1930, as amended, 19 U.S.C. 1337, based upon the importation into the United States, the sale for importation, and the sale within the United States after importation of certain outdoor and semi-outdoor electronic displays, products containing same, and components thereof by reason of infringement of certain claims of U.S. Patent Nos. 8,854,595; 9,173,322; 9,629,287; 10,506,740; and 11,013,142. The complaint further alleges that a domestic industry exists. The Commission's notice of investigation named seven (7) respondents, including: Coates Visual; Coates Signco Pty Limited of Sydney, Australia; Samsung Electronics Co., Ltd. of Gyeonggi-do, Republic of Korea; Samsung SDS Co. Ltd. of Seoul, Republic of Korea; Samsung SDS America and Samsung Electronics America, Inc., both of Ridgefield Park, New Jersey; and Industrial Enclosure Corporation d/b/a Palmer Digital Group of Aurora, Illinois. The Office of Unfair Import Investigations is not participating in the investigation.

On October 21, 2022, Complainant filed an unopposed motion: (1) to terminate the investigation as to Coates Visual based on the withdrawal of the allegations in the complaint as to this respondent; and (2) for leave to amend the complaint and NOI to add respondent Coates US of Chicago, Illinois to replace Coates Visual as the correctly named respondent.

On October 24, 2022, the ALJ issued the subject ID (Order No. 6) granting Complainant's motion for partial termination of the investigation as to respondent Coates Visual and for leave to amend the complaint and NOI to add respondent Coates US. The subject ID finds that the motion for termination satisfies Commission Rule 210.21(a)(1), 19 CFR 210.21(a)(1). The subject ID also finds that Complainant has shown good cause to amend the NOI pursuant to Commission Rule 210.14(b), 19 CFR 210.14(b), because Complainant “did not learn the identity of the [correct] respondent until after the institution of the investigation.” See Order No. 6 at 2. No party petitioned for review of the subject ID.

The Commission has determined not to review the subject ID. Respondent Coates Visual is terminated from the investigation and the NOI is amended to add respondent Coates US.

The Commission vote for this determination took place on November 10, 2022.

The authority for the Commission's determination is contained in section 337 of the Tariff Act of 1930, as amended, 19 U.S.C. 1337, and in Part 210 of the Commission's Rules of Practice and Procedure, 19 CFR part 210.

By order of the Commission.
Issued: November 10, 2022.
Katherine Hiner,
Acting Secretary to the Commission.

[FR Doc. 2022-24986 Filed 11-16-22; 8:45 am]

BILLING CODE 7020-02-P